ENVIRONMENTAL PROTECTION AGENCY

[ER-FRL-6646-6]

Environmental Impact Statements; Notice of Availability

Responsible Agency: Office of Federal Activities, General Information (202) 564-7167 or http://www.epa.gov/compliance/nepa/. Weekly receipt of Environmental Impact Statements filed December 8, 2003, through December 12, 2003, pursuant to 40 CFR 1506.9.

EIS No. 030554, Final EIS, AFS, CA, Interface Recreation Trails Project, recreation route system development, implementation, Stanislaus National Forest, Calaveras Ranger District, Calaveras County, CA, due: January 20, 2004, contact: Robert W. Griffith (209) 795-1381.

EIS No. 030555, Final EIS, NPS, MA, Boston Harbor Islands National Recreation Area, implementation, general management plan, Boston, MA, due: January 20, 2004, contact: George E. Price, Jr. (617) 223-8666.

This document is available on the Internet at: http://www.nps.gov/boha/pphtml/documents.html.

EIS No. 030556, Draft EIS, USN, WA, Fox Island Laboratory Stabilization of In-Water Facilities, Naval Surface Warfare Center, Carderock Division, Pierce County, WA, due: February 2, 2004, contact: Kimberly Kler (360) 396-0927.

EIS No. 030557, Final EIS, FHW, TX, TX-45 Highway Southeast Study, I-35 south at Farm-to-Market Road-1327 to TX-130/US 183, local regional enhancements to the national transportation systems, funding and right-of-way permit issuance, Travis County, TX, due: January 20, 2004, contact: Salvador Decampo (512) 536-5950.

EIS No. 030558, Draft EIS, FHW, MN, MN-371 North Improvement Project, reconstruction from intersection of Crow Wing County Road 18 in Nisswa to the intersection of Cass County Road 42 in Pine River, NPDES Permit and U.S. Army COE Section 404 Permit, Crow Wing and Cass Counties, MN, due: February 9, 2004, contact: Cheryl Martin (651) 291-6120.

EIS No. 030559, Draft EIS, COE, AZ, EL Rio Antiguo Feasibility Study, Ecosystem Restoration along the Rillito River, Pima County, AZ, due: February 2, 2004, contact: John Moeur (213) 452-4219.

EIS No. 030560, Draft Supplement, COE, FL, Central and Southern Florida Project, Indian River Lagoon—south feasibility study, to address the requirement of section 601 of the Water Resources Development Act 2000 and three additional alternatives, Martin, St. Lucie and Okeechobee Counties, FL, due: February 2, 2004, contact: Mike Rogalski (904) 232-1460.

EIS No. 030561, Draft EIS, AFS, OR, Eyerly Fire Salvage Project, burned and damage trees salvage, reforestation and fuels treatment, Implementation, Deschutes National Forest, Sisters Ranger District, Jefferson County, OR, Due: February 2, 2004, contact: Dave Owens (541) 416-6425.

This document is available on the Internet at: http://www.fs.fed.us/r6/centraloregon/projects/units/sisters//eyerly-eis.shtml.

EIS No. 030562, Draft EIS, AFS, UT, Bear Hodges II Timber Sale Management Plan, selective timber harvest of spruce stands with or without road construction, implementation, Wasatch National Forest (WCNF), Logan Ranger District, Cache and Rich Counties, UT, due: February 2, 2004, contact: Thomas Tidwell (801) 524-3900.

EIS No. 030563, Draft EIS, NPS, SC, FL, NC, GA, Low Country Gullah Culture Special Resource Study, Gullah culture preservation and protection analysis to consider the suitability and feasibility for inclusion in the National Park Service System, SC, NC, GA and FL, due: February 2, 2004, contact: John Barrett (Ext. 637) (404) 512-3124.

EIS No. 030564, Draft EIS, FHW, TX, Kelly Parkway Project, construction from U.S. 90 to TX-16, to improvement transportation mobility, facilitate economic development, and enhance safety, funding and U.S. Army COE Section 404 Permit, San Antonio, Bexar County, TX, due: February 2, 2004, contact: Salvador Deocampo (512) 536-5950.

EIS No. 030565, Final EIS, NOA, WA, CA, OR, Pacific Coast Groundfish Fishery Management Plan (FMP) Amendment 16-2, rebuilding plans for: darkblotched rockfish, Pacific Ocean perch, canary rockfish, and lingcod, maximum sustainable yield (MSY) Magnuson-Stevens Fishery Conservation and Management Act, WA, OR, CA and Boundary of U.S. EEZ, due: January 20, 2004, contact: Robert Lohn (206) 516-6150.

EIS No. 030566, Final Supplement, NRC, SC, Generic EIS—license renewal of nuclear plants, supplement 13 regarding H.B. Robinsion Steam Electric Plant, Unit No. 2, operating license renewal for 20 years, site specific, on the shore of Lake Robinsion, Darlington and Chesterfield Counties, SC, due: January 20, 2004, contact: Richard L. Emch, Jr. (301) 415-1590.

Amended Notices

EIS No. 030514, Draft EIS, FHW, IL, Macomb Area Study, construction from U.S. Route 67 (FAP-310) and Illinois Route 336 (FAP-315), City of Macomb, McDonough County, IL, due: January 13, 2004, contact: Norman R. Stoner (217) 492-4640. Revision of Federal Register notice published on 11/14/2003: correction to comment period from 12-29-2003 to 01-13-2004.

EIS No. 030525, Draft EIS, AFS, OR, Biscuit Fire Recovery Project, improve firefighter safety, reduce the risk of high-intensity, stand replace fire public and private managed lands, Siskiyou National Forest, Rogue River, Josephine and Curry Counties, OR, due: january 20, 2004, contact: Tom Link (541) 471-6500.

Revision of Federal Register notice published on 11/21/03: CEQ comment period ending 01/05/2004 has been extended to 01/20/2004.

EIS No. 030537, Final EIS, BLM, AK, Northwest National Petroleum Reserve-Alaska (NPR-A) integrated plan, multiple-use management of 8.8 million acres, lands within the North Slope Borough, AK, due: January 20, 2004, contact: Curtis Wilson (907) 271-5546. Revision of Federal Register notice published on 11/28/2003: CEQ wait period ending on 12/29/2003 has been extended to 1/20/2004.

EIS No. 030546, Draft EIS, AFS, PA, Sugar Run Project Area (SRPA), to achieve and maintain the desired conditions as stated in forest plan, Allgeheny National Forest, Bradford Ranger District, McKean County, PA, due: January 26, 2004, contact: Heather Whittier (814) 362-4613 Ext. 142.

Revision of Federal Register notice published on 12/12/2003: correction to telephone number.

Dated: December 16, 2003.
Joseph C. Montgomery,
Director, NEPA Compliance Division, Office of Federal Activities.

[FR Doc. 03-31353 Filed 12-18-03; 8:45 am]

BILLING CODE 6560-50-P